NATIONAL AERONAUTICS AND SPACE ADMINISTRATION

[Notice: (15-085)]

NASA Advisory Council; Science Committee; Meeting

AGENCY: National Aeronautics and Space Administration.

ACTION: Notice of meeting.

SUMMARY: In accordance with the Federal Advisory Committee Act, Public Law 92-463, as amended, the National Aeronautics and Space Administration (NASA) announces a meeting of the Science Committee of the NASA Advisory Council (NAC). This Committee reports to the NAC. The meeting will be held for the purpose of soliciting, from the scientific community and other persons, scientific and technical information relevant to program planning.

DATES: Monday, November 2, 2015, 10:00 a.m. to 5:30 p.m., Eastern Standard Time (EST).

ADDRESSES: The meeting will be available telephonically and by WebEx. You must use a touch-tone phone to participate in this meeting. Any interested person may dial the USA toll free conference call number 1-800-988-9663, passcode 8015, to participate in this meeting by telephone. A toll number also is available, 1-517-308-9483, passcode 8015. The WebEx link is https://nasa.webex.com/; the meeting number is 995 409 586 and the password is Science@Nov2.

FOR FURTHER INFORMATION CONTACT: Ms. Ann Delo, Science Mission Directorate, NASA Headquarters, Washington, DC 20546, (202) 358-0750, fax (202) 358-2779, or ann.b.delo@nasa.gov.

SUPPLEMENTARY INFORMATION:

The agenda for the meeting includes the following topics:

—Education Update

—Science Mission Directorate Division Director Briefings

—Subcommittee Reports

It is imperative that this meeting be held on these dates to accommodate the scheduling priorities of the key participants.

Patricia D. Rausch,
Advisory Committee Management Officer, National Aeronautics and Space Administration.

[FR Doc. 2015-24944 Filed 9-30-15; 8:45 am]

BILLING CODE 7510-13-P